DEPARTMENT OF THE INTERIOR

Bureau of Ocean Energy Management

[Docket No. BOEM-2024-0001]

Notice of Availability of a Draft Programmatic Environmental Impact Statement for Expected Wind Energy Development in the New York Bight; Extension of Comment Period

AGENCY: Bureau of Ocean Energy Management, Interior.

ACTION: Draft programmatic environmental impact statement; extension of comment period.

SUMMARY: On January 12, 2024, the Bureau of Ocean Energy Management (BOEM) published a notice of availability (NOA) in the Federal Register announcing a public comment period for the draft programmatic environmental impact statement (PEIS) that analyzes the potential impacts of wind energy development in six lease areas of the New York (NY) Bight. BOEM is extending the comment period on the draft PEIS. This notice announces an extension of the public comment period, which will now end on March 13, 2024. After BOEM addresses comments provided, BOEM will publish a final PEIS.

DATES: The comment period for the notice published January 12, 2024, at 89 FR 2249, is extended. Comments must be received no later than March 13, 2024.

ADDRESSES: The draft PEIS and detailed information about the project can be found on BOEM's website at: https://www.boem.gov/renewable-energy/state-activities/new-york-bight. Comments can be submitted in any of the following ways:

• Delivered by mail or delivery service, enclosed in an envelope labeled, “NY BIGHT PEIS” and addressed to Chief, Division of Environmental Assessment, Office of Environmental Programs, Bureau of Ocean Energy Management, 45600 Woodland Road, VAM-OEP, Sterling, Virginia 20166; or

• Through the regulations.gov web portal: Navigate to https://www.regulations.gov and search for Docket No. BOEM-2024-0001. Select the document in the search results on which you want to comment, click on the “Comment” button, and follow the online instructions for submitting your comment. A commenter's checklist is available on the comment web page. Enter your information and comment, then click “Submit.”

FOR FURTHER INFORMATION CONTACT: Jill Lewandowski, BOEM Office of Environmental Programs, 45600 Woodland Road, VAM-OEP, Sterling, Virginia 20166, (703) 787-1703 or jill.lewandowski@boem.gov.

SUPPLEMENTARY INFORMATION: Please refer to the NOA published in the Federal Register (89 FR 2249) on January 12, 2024, for further information.

Comments already submitted in response to the January 12, 2024, NOA do not need to be resubmitted. BOEM discourages the submittal of anonymous comments.

Please include your name and address as part of your comment. BOEM makes all comments in their entirety, including the names and addresses of respondents, available for public review online and during regular business hours. You may request that BOEM withhold your name, address, or any other personal identifiable information (PII) included in your comment from the public record. However, BOEM cannot guarantee that it will be able to do so. If you wish your name, address, or other PII to be withheld, you must state your request prominently in a cover letter and explain the harm that you fear from its disclosure such as unwarranted privacy invasion, embarrassment, or injury. All submissions from organizations or businesses and from individuals identifying themselves as representatives or officials of organizations or businesses will be made available for public inspection in their entirety.

Even if BOEM withholds your PII in the context of this notice, your comment is subject to the Freedom of Information Act (FOIA) (5 U.S.C. 552). Your information will only be withheld if a determination is made that one of the FOIA exemptions to disclosure applies. Such a determination will be made in accordance with the Department's FOIA implementing regulations (43 CFR part 2) and applicable law.

BOEM protects business confidential information in accordance with the Freedom of Information Act (5 U.S.C. 552) and the Department of the Interior's implementing regulations (43 CFR part 2 and 30 CFR part 585).

Authority: 42 U.S.C. 4231 et seq. (NEPA, as amended) and 40 CFR 1506.6.

Karen Baker,
Chief, Office of Renewable Energy Programs, Bureau of Ocean Energy Management.

[FR Doc. 2024-04246 Filed 2-28-24; 8:45 am]

BILLING CODE 4340-98-P